CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Competitive Advantage study for review and approval in accordance with the Paperwork Reduction Act of 1995, Public Law 104-13, (44 U.S.C. Chapter 35). Copies of this ICR, with applicable supporting documentation, may be obtained by calling the Corporation for National and Community Service, Adrienne DiTommaso, at 202-606-3611 or email to aditommaso@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 1/21/14. This comment period ended 3/24/14. There were 2 comments submitted. Those comments involved suggestions around the hiring scenario set up; candidate experience profiles; and the brand identity of members. Clarifying information was provided to the commenters to further explain the use of a bachelor's degree as the common level of education across candidates, and the use of a highly generalized office position as the hypothetical position of interest. A technical question about the possible incompatibility of certain combinations of candidate experiences was answered through an example. Finally, the suggestion that we test AmeriCorps brand salience vs. grantee brand salience was addressed by explaining the lack of sufficient space in the experimental design, as well as concerns of confusing and overburdening respondents with too much information.

Description: CNCS is seeking approval of the AmeriCorps Competitive Advantage study, which is used by staff in the Office of Research and Evaluation to identify any competitive advantage in the job market that may be conferred by AmeriCorps experience.

Type of Review: New.

Agency: Corporation for National and Community Service.

Title: AmeriCorps Competitive Advantage Study.

OMB Number: None.

Agency Number: None.

Affected Public: Employees involved in the hiring process in public, non-profit, and private sectors.

Total Respondents: Approximately 500.

Frequency: One time.

Average Time per Response: 15 minutes.

Estimated Total Burden Hours: 125.

Total Burden Cost (capital/startup): None.

Total Burden Cost (operating/maintenance): None.

Dated: April 21, 2014.
Mary Hyde,
Acting Director, Office of Research and Evaluation.

[FR Doc. 2014-09388 Filed 4-24-14; 8:45 am]

BILLING CODE 6050-28-P